PENSION BENEFIT GUARANTY CORPORATION

New Guidance Document Database

AGENCY: Pension Benefit Guaranty Corporation (PBGC).

ACTION: Notice of availability.

SUMMARY: PBGC announces its new guidance document database. Guidance documents currently in effect are accessible through the database.

DATES: The database will be publicly available no later than February 28, 2020.

FOR FURTHER INFORMATION CONTACT: Hilary Duke (duke.hilary@pbgc.gov), Assistant General Counsel for Regulatory Affairs, Office of the General Counsel, 202-229-3839. (TTY users may call the Federal relay service toll-free at 800-877-8339 and ask to be connected to 202-229-3839.)

SUPPLEMENTARY INFORMATION: On October 9, 2019, the President issued Executive Order (E.O.) 13891, “Promoting the Rule of Law Through Improved Agency Guidance Documents.” Central principles of E.O. 13891 are that the American public should only be subject to binding rules imposed through duly enacted statutes or through regulations that are lawfully promulgated, and that Americans should have fair notice of any such obligations. To ensure increasing transparency, section 3 of the E.O. requires each agency to establish on its website a single, searchable, indexed database that contains, or links to, all of the agency's “guidance documents,” as defined in the E.O., and provides certain information about them. Accordingly, PBGC has established the required guidance document database at www.pbgc.gov/guidance. The guidance document database contains links to PBGC “guidance documents.”

Issued in Washington, DC, by
Gordon Hartogensis,
Director, Pension Benefit Guaranty Corporation.

[FR Doc. 2020-03977 Filed 2-27-20; 8:45 am]

BILLING CODE 7709-02-P